DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Union Pacific Railroad Company

[Waiver Petition Docket Number FRA-2006-25764]

Union Pacific Railroad Company (UP) seeks a waiver of compliance with certain requirements of 49 CFR, 232.205, Class I Brake Test-Initial Terminal inspection, published January 17, 2001, and 49 CFR 215—Railroad Freight Car Safety Standards, published April 21, 1980, for freight cars received in interchange from the Ferrocarriles Nacionales de Mexico Railroad (FXE), at Calexico, California. Specifically, UP seeks approval to move the equipment from the interchange point, at MP 708.5 on the Calexico Subdivision, to the UP rail yard in El Centro, California (a distance of 10.1 miles), without performing the inspections and tests specified.

According to UP, a Class III brake test-trainline continuity inspection would be performed per the requirements of 49 CFR 232.211, prior to departing Calexico, and the equipment would be inspected to ensure safe movement to El Centro at a train speed not to exceed 20 mph. Equipment found unsafe for movement to El Centro for repairs would be set out of the train at Calexico. The train would be equipped with a compliant end-of-train device per 49 CFR 232, Subpart E.

UP currently receives approximately 50 freight cars per day from FXE at the interchange point in Calexico. The volume has grown steadily in recent years and stands to grow even more as the effects of both the NAFTA and GATT trade agreements. United States Customs conduct inspections of the equipment at Heber, which usually takes more than an hour. If the equipment is “off air” for more than 4 hours at Heber, a “transfer train brake test” per the requirements of 49 CFR 232.215, would be performed prior to departure. From Heber, the train would move to El Centro (a distance of 4.6 miles), where a Class I brake test-initial terminal inspection would be performed per the requirements of 49 CFR 232.205.

UP states that the capacity of the existing railroad facility in Calexico is inadequate to handle current volume and the waiver is necessary to facilitate movement and to avoid restricting the volume of rail cars handled through this gateway. UP asserts that Calexico is a “bottleneck” that causes delays to international commerce on both sides of the border, and granting the requested waiver, will have no adverse effect on safety. UP also references current railroad operations at border crossings in Brownsville and Laredo, Texas, where trains move several miles from the border without performing a Class I air test.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2006-25764) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on September 20, 2006.
Grady C. Cothen, Jr.,
Deputy Associate Administrator for Safety Standards and Program Development.

[FR Doc. E6-15752 Filed 9-25-06; 8:45 am]

BILLING CODE 4910-06-P